DEPARTMENT OF TRANSPORTATION

Federal Railroad Administration

[Docket Number FRA-2012-0024]

Petition for Waiver of Compliance

In accordance with Part 211 of Title 49 Code of Federal Regulations (CFR), this document provides the public notice that by a document dated February 24, 2012, the Everett Railroad Company (EV) has petitioned the Federal Railroad Administration (FRA) for a waiver of compliance from certain provisions of the Federal railroad safety regulations contained at 49 CFR parts 215-Railroad Freight Car Safety Standards; 223-Safety Glazing Standards—Locomotives, Passengers Cars and Cabooses; and 224-Reflectorization of Rail Freight Rolling Stock. FRA assigned the petition docket number FRA-2012-0024.

Specifically, EV seeks a waiver of compliance from the railroad freight car safety standards contained at 49 CFR 215.303, which requires stenciling on restricted freight cars with a clearly legible letter “R” followed by the basis of the restriction. This request is made for a caboose (Car Number EV 91517). EV also requested Special Approval to continue in service the same cars in accordance with 49 CFR 215.203(c). The ages of these cars are more than 50 years from their original construction dates, and therefore, are restricted per 49 CFR 215.203(a), unless EV receives a Special Approval from FRA. Additionally, EV requests a waiver from Part 223 for the glazing requirements and Part 224 for the reflectorization requirements.

EV states that the subject car is restricted by age. It is retained primarily for use on excursion trains, historical and public relation events, along with possible, but very infrequent, use as a crew caboose or shoving platform.

In order to preserve its historic appearance, EV requests a waiver from requirements for special stenciling and reflectorization. EV also stated that the requirement of FRA-certified glazing would be costly and difficult to install.

In support of its request, EV stated that its operation is over a total of approximately 25 miles of track located entirely in Blair County, PA. The trains operate under restricted speed rules not exceeding 20 mph. The subject car is not, and will not be, interchanged with any other railroad. EV's operating territory is generally rural in nature, and the car has been inspected and found to be safe to operate.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by December 14, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on October 22, 2012.
Robert C. Lauby,
Deputy Associate Administrator for Regulatory and Legislative Operations.

[FR Doc. 2012-26693 Filed 10-29-12; 8:45 am]

BILLING CODE 4910-06-P